DEPARTMENT OF LABOR

Office of the Secretary

Combating Exploitive Child Labor Through Education in Ecuador; Combating Exploitive Child Labor and Trafficking Through Education in Indonesia; Combating Exploitive Child Labor Through Education in Panama; Combating Exploitive Child Labor Through Education in Turkey

May 6, 2004.

AGENCY: Bureau of International Labor Affairs, Department of Labor.

Announcement Type: New. Notice of availability of funds and solicitation for cooperative agreement applications.

Funding Opportunity Number: SGA 04-08.

Catalog of Federal Domestic Assistance (CFDA) Number: Not applicable.

DATES: Deadline for Submission of Application is June 7, 2004.

SUMMARY: The U.S. Department of Labor, Bureau of International Labor Affairs, will award up to U.S. $18 million through one or more cooperative agreements to an organization or organizations to improve access to quality education programs as a means to combat exploitive child labor in Ecuador (up to $3 million), Indonesia (up to $6 million), Panama (up to $3 million), and Turkey (up to $6 million). The activities funded will complement and expand upon existing projects and programs to improve basic education in these countries, and, where applicable, provide access to basic education to children in areas with a high incidence of exploitive child labor. Applications must respond to the entire Statement of Work outlined in this Solicitation for Cooperative Agreement Applications. In Ecuador, activities under this cooperative agreement will work within the framework of the government's Timebound Program to provide access to improved basic and vocational education for children who are working, removed from work, or prevented from working in the banana and cut flower industries. In Indonesia, activities under this cooperative agreement will expand access and quality of basic education for children at-risk of being trafficked or who have been trafficked for exploitive labor, particularly in commercial sexual exploitation or domestic service. In Turkey, activities under this cooperative agreement will work within the government's Timebound Policy and Program Framework to expand access to basic and vocational education for children working in the agricultural sector, particularly children engaged or at-risk of engaging in seasonal migration work.

I. Funding Opportunity Description

The U.S. Department of Labor (USDOL), Bureau of International Labor Affairs (ILAB), announces the availability of funds to be granted by cooperative agreement to one or more qualifying organizations for the purpose of expanding access to and quality of basic education and strengthening government and civil society's capacity to address the education needs of working children and those at risk of entering work in Ecuador, Indonesia, Panama, and Turkey. ILAB is authorized to award and administer this program by the Consolidated Appropriations Act, 2003, Public Law 108-7, 117 Stat. 11 (2003). The cooperative agreement or cooperative agreements awarded under this initiative will be managed by ILAB's International Child Labor Program to assure achievement of the stated goals. Applicants are encouraged to be creative in proposing cost-effective interventions that will have a demonstrable impact in promoting school attendance in areas of those countries where children are engaged in or are most at risk of working in the worst forms of child labor.

A. Background and Program Scope

1. USDOL Support of Global Elimination of Exploitive Child Labor

The International Labor Organization (ILO) estimated that 211 million children ages 5 to 14 were working around the world in 2000. Full-time child workers are generally unable to attend school, and part-time child laborers balance economic survival with schooling from an early age, often to the detriment of their education. Since 1995, USDOL has provided over $275 million in technical assistance funding to combat exploitive child labor in over 60 countries around the world.

Programs funded by USDOL range from targeted action programs in specific sectors to more comprehensive efforts that target activities defined by ILO Convention No. 182 on the Worst Forms of Child Labor. From FY 2001 to FY 2004, the U.S. Congress appropriated US $148 million to USDOL for a Child Labor Education Initiative to fund programs aimed at increasing access to quality, basic education in areas with a high incidence of abusive and exploitive child labor. The cooperative agreement(s) awarded under this solicitation will be funded through this initiative.

USDOL's Child Labor Education Initiative seeks to nurture the development, health, safety and enhanced future employability of children around the world by increasing access to basic education for children removed from work or at risk of entering work. Elimination of exploitive child labor depends in part on improving access to, quality of, and relevance of education.

The Child Labor Education Initiative has four goals:

a. Raise awareness of the importance of education for all children and mobilize a wide array of actors to improve and expand education infrastructures;

b. Strengthen formal and transitional education systems that encourage working children and those at risk of working to attend school;

c. Strengthen national institutions and policies on education and child labor; and

d. Ensure the long-term sustainability of these efforts.

2. Barriers to Education for At Risk and Working Children, Countries Background, and Focus of Solicitation

Throughout the world, there are complex causes of exploitive child labor as well as barriers to education for children engaged in or at risk of entering exploitive child labor. These include: Poverty; education system barriers; infrastructure barriers; legal and policy barriers; resource gaps; institutional barriers; informational gaps; demographic characteristics of children and/or families; cultural and traditional practices; and weak labor markets. Although these elements and characteristics tend to exist throughout the world in areas with a high rate of exploitive child labor, they manifest themselves in specific ways in each country of interest in this solicitation.

In Ecuador, activities under this cooperative agreement will work within the framework of the government's Timebound Program to provide access to quality basic and vocational education to children working or at-risk of working under hazardous conditions in the banana and cut flower industries. In Indonesia, activities under this cooperative agreement will expand access to and quality of basic education for children at risk of being trafficked or who have been trafficked for exploitive labor, particularly in commercial sexual exploitation or domestic service. In Panama, activities under this cooperative agreement will provide educational opportunities for children working or at-risk of entering into hazardous commercial agriculture. In Turkey, activities under this cooperative agreement will work within the framework of the government's Timebound Program to expand access to basic and vocational education for children working under hazardous conditions in the agricultural sector, particularly children working or at risk of working in seasonal migration work. Applicants should be able to identify the specific barriers to education and the education needs of specific categories of children targeted in their proposed project (e.g., children withdrawn from work, children at high risk of dropping out of school into the labor force, children still working in a particular sector) and how capacity building and policy change can be used to address these barriers and education needs. Short background information on education and exploitive child labor in each of the countries of interest is provided below. For additional information on exploitive child labor in these countries, applicants are referred to The Department of Labor's 2002 Findings on the Worst Forms of Child Labor available at http://www.dol.gov/ILAB/media/reports/iclp/tda2002/overview.htm or in hard copy from Lisa Harvey, U.S. Department of Labor, Procurement Services Center, telephone (202) 693-4570 (this is not a toll-free-number) or e-mail: harvey.lisa@dol.gov.

Ecuador. In 2001, Ecuador's National Institute of Statistics and Censuses estimated that 24.9 percent of children 5 to 17 years of age, or 775,753 children, were working in Ecuador. Approximately 60 percent of these children were found working in agriculture, with other children found working in retail commerce, domestic service, construction, and in hotels and restaurants. The majority of working children are found in the rural areas of the highlands, the Amazon region, and urban coastal areas. In addition, 39 percent of working children do not attend school due to factors such as a lack of economic resources, long work hours, and lack of interest.

While nearly universal coverage of primary education exists in urban areas, 20 percent of rural children of school age do not attend school and only 36 percent of rural children who enter primary school complete it. The average number of years of schooling in rural areas is 4.8 years, compared to the national average of 7.5 years. This number drops to 3.7 years in indigenous communities. For many poor families, the costs associated with education are often prohibitive, especially for those in rural areas and indigenous communities. Access to secondary schools is also particularly scarce in rural areas compared to urban areas and older children and adolescents often lack opportunities to receive vocational education or skills training.

Program efforts under this solicitation must focus on developing innovative and effective approaches to improve access to basic and vocational/technical education to children working or at risk of entering work in the banana and cut flower industries. Applicants must work within the framework of the Government of Ecuador's National Plan for the Progressive Elimination of Child Labor, 2003-2006. Geographic target areas must include the banana provinces of Los Rios, Guayas and El Oro on the coast, and the cut-flower provinces of Pichincha and Cotopaxi in the highlands.

Applicants are strongly encouraged to support the concept of public-private partnerships and corporate social responsibility by building on preliminary efforts in the banana sector to provide basic and vocational education, and expanding them into the cut-flower industry. Public-private partnerships are expected to support family and community participation within the context of education, especially in indigenous communities. Lessons learned could eventually be applied to similar public-private partnerships in different sectors throughout the country and the region. Proposals funded under this solicitation are encouraged to leverage resources from the private sector to promote collaboration with the Ministries of Education and Culture, Labor and Human Resources, and other relevant ministries that have the responsibility to provide basic and technical/vocational services to vulnerable children living and working in the regions mentioned above. Applicants must also coordinate with current government initiatives, such as the Bono de Desarrollo Humano and Redes Amigas, and SECAP, as well as with private institutions and nongovernmental organizations (NGOs) working in the same regions and with similar populations, such as the ILO's International Program on the Elimination of Child Labor's (IPEC) Timebound Program where that would further the goals of this program.

Indonesia. In 2000, the ILO estimated that 7.8 percent of children 10 to 14 years of age, or 1.7 million children, were working in Indonesia. Boys in the same age group were working at slightly higher rates (8.7 percent) than girls (6.9 percent). Children have traditionally worked alongside their families in agricultural or domestic work, but are also found working in hazardous activities that include garbage scavenging, street peddling, deep-sea fishing, drug trafficking, and the commercial sex trade.

Trafficking in persons, both within and across borders, is known to be a significant problem for women and children in Indonesia. In particular, children are trafficked internally from rural areas into large cities to assist their families by earning extra income. Children are most commonly trafficked for migrant work, domestic work, and commercial sexual exploitation. It is estimated that between 254,000 and 422,000 children are vulnerable to being trafficked for domestic work or commercial sexual exploitation in Indonesia. The nature and relationships of traffickers vary and can include recruiting agents, government officials, employers, brothel owners and managers, marriage brokers, parents and relatives, and spouses.

Since 1990, the formal education system has included 9 years of compulsory schooling; 6 years of primary schooling, SD-Sekolah Dasar, and 3 years of junior secondary schooling, SLTP-Sekolah Lanjutan Tingkat Peratma or SMP-Sekolah Menengah Pertama. While education is compulsory for children 7 to 15 years, it is not free. Parents have a responsibility to contribute to the financing of schools at the community level. Formal school fees and informal levies, plus the cost of books and uniforms, are often more than poor families can afford. Transportation costs can also be prohibitive for poor families. There are shortages of teachers in many areas, existing teachers are often poorly trained, and school curricula lack relevant skills training.

The lack of access to schools beyond the primary level contributes to low transition rates to and high dropout rates from junior secondary schools. The lack of access to junior secondary schools prevented an estimated 6 million children from attending school in the 2000/2001 school year. Children, especially girls, in this grade level and age group are particularly vulnerable to dropping out of school and entering the worst forms of child labor. For children who drop out of school, the reentry to the formal school system can be difficult due to the psychological and emotional trauma that child victims of the worst forms of child labor including trafficking have suffered.

The provinces of Bali, Central Java, East Java, East Kalimantan, Jakarta, North Sulawesi, North Sumatra, Papua, Riau, West Java, West Kalimantan, and the eastern island provinces of West Nusa Tenggara (NTB) and East Nusa Tenggara (NTT) are known as sending and/or receiving areas for children trafficked for commercial sex or domestic work. Applicants under this solicitation are requested to select from four to a maximum of six provinces in which to focus interventions in selected areas where there is a high incidence of child trafficking for exploitive labor. Applicants are strongly encouraged to focus program interventions on two main populations: (1) children in primary school at risk of dropping out, particularly those living in areas where there is limited or no access to junior secondary schools, and (2) children who have been trafficked and wish to return and reintegrate into formal school or pursue alternative education, such as vocational/technical education and skills training.

Applicants must work to support the policy of decentralization and within the framework of the Government of Indonesia's Presidential Decree No. 59/2002, National Plan of Action for the Elimination of the Worst Forms of Child Labor. Proposals must demonstrate how project activities will complement, support, and broaden existing efforts of international agencies, local NGOs, and the Government of Indonesia. In the development of proposals, applicants are encouraged to consult with the Coordinating Ministry for People's Welfare, the State Ministry for Women's Empowerment, the Ministry of National Education, the Ministry of Manpower and Transmigration, other relevant government ministries, and local government authorities and civil society groups in prospective project locations. Applicants are also encouraged to complement and strengthen, where feasible, educational activities in geographical areas where the ILO/IPEC's program Support to the Indonesian National Plan of Action and the Development of the Time-Bound Program for the Elimination of the Worst Forms of Child Labor will focus on the prevention and withdrawal of children trafficked for prostitution. These areas include Central Java, East Java, Greater Jakarta, West Java, and Yogyakarta. Applicants are strongly encouraged to coordinate with other U.S. Government-funded or international donor activities, including the U.S. Government's announced Education Initiative for Indonesia that will be carried out through the U.S. Agency for International Development (USAID).

Panama. In 2000, the Panama Census and Statistics Directorate estimated that 57,524 children ages 5 to 17 years in Panama were working (7.6 percent of this age group). The highest concentrations of child laborers can be found in the provinces of Panama (28.4%), Veraguas (15.4%), and in indigenous areas (20.4%). Children are found working in rural areas during the harvesting periods for sugar cane, coffee, bananas, melons, and tomatoes. Most working children in Panama live in rural and indigenous areas, and are engaged in agricultural activities. Children in Panama also work as domestic servants. Child labor also exists in urban areas, especially in the informal sector. Children are also given tips to bag groceries and clean in supermarkets in urban sectors in Panama. The commercial sexual exploitation of children has also been reported.

In Panama, education is free and compulsory through the ninth grade. There are instances of children dropping out of school, especially in rural and indigenous areas. Many rural areas do not have access to secondary education and the government does not cover transportation costs. Children from poor families often do not attend school due to lack of transportation and the need to migrate with their families during the harvesting season. Parents must buy books and school supplies for their children to attend school. There are sometimes matriculation fees, which can also be prohibitive. According to some estimates, only 55% of working children have completed primary school, and 22% have not completed any grade. School attendance is a particular problem in the Darien province and in indigenous communities. About one-third of children from indigenous communities miss the first 3 months of the academic year to work in the coffee harvest. According to the Ministry of Youth, Women, Children and Family, 82 percent of the children in rural areas are absent from school during the harvest season.

The provinces of Chiriquí, Coclé, Herrera, Veraguas, and Los Santos have been identified as some of the country's most populous agricultural areas. Applicants under this solicitation are requested to focus educational interventions in some or all of the provinces identified above, and/or in the Darien Province, in order to reach children engaged in hazardous agricultural and/or seasonal migration work and children who are at high risk of entering the worst forms of child labor. Applicants are strongly encouraged to focus program interventions on: (1) children working or at risk of working in commercial agriculture, particularly in the coffee, sugarcane, melon, tomato, and banana sectors, (2) including indigenous and migrating children.

Applicants must demonstrate their understanding of risk factors for working children and educational barriers to children in the selected areas, and knowledge of any exploitive child labor and education projects or programs already being carried out in these areas by international agencies, local NGOs, and the Government of Panama. In the development of proposals, applicants are encouraged to consult with the Ministry of Labor, the Ministry of Education, the Ministry of Youth, Women, Children, and Family, other relevant government ministries, local government authorities, and civil society groups in prospective project locations.

A project awarded under this solicitation should provide or facilitate the direct delivery of education to children working in hazardous commercial agriculture, giving particular consideration to the coffee, sugarcane, melon, tomato, and banana sectors, and to migrant and indigenous populations. Teachers working in rural and indigenous/migrant communities should be trained in the special needs of child laborers.

The project should develop innovative ways to provide remedial education, accelerated learning, and other forms of non-formal education to bridge the gap that exists in education delivery. Applicants should develop creative and innovative methods to reach indigenous, migrant, and/or rural communities. An education scheme could include a training/skills component, which would give them the tools to become better prepared and skilled workers once they reach legal working age, or to fill other identified economic demands in the rural commercial agriculture regions of Panama. A project could support and encourage vocational education, especially in the aforementioned sectors.

The project should also encourage private-public partnerships in an effort to maximize resources focused on exploitive child labor and education activities, particularly in the commercial agriculture sector. The project could also use leveraged resources from the private sector to promote collaboration with the Ministries of Education, Labor and Youth, Women, Children, and Family to provide basic and technical/vocational services to vulnerable children living and working in this area. Lessons learned could eventually be applied to similar public-private partnerships in different sectors throughout the country and the region.

Applicants are encouraged to consider the differences in the work activities undertaken by boys and girls and other gender-specific obstacles that keep children out of school to develop gender-sensitive interventions.

Turkey. According to the 1999 National Child Labor Survey conducted by the State Institute of Statistics, the number of children ages 6 to 14 working for a wage in Turkey was estimated to be 511,000. Over 1.1 million (27.9 percent) of older children, aged 15 to 17, were also working. In urban areas, children work in auto repair, metal and woodworking, the production of clothing, textiles, footwear, and leather goods, and domestic service. In rural areas, the majority of children are seasonal agricultural workers. Children who perform seasonal migrant work rarely attend school and move from region to region with their families to pick tobacco, nuts, fruit, and cotton. These children endure dangerous working conditions and long work hours. They are often too tired to concentrate on their studies, or do not have access to schools. The provinces of Gaziantep, Sanliurfa, Batman, Mardin, Aydin, and Mugla have been identified as areas with many seasonal migrant working children.

Applicants under this solicitation are requested to focus educational interventions in all six of the provinces identified above in order to reach children working or at-risk of working under hazardous conditions in seasonal migrant work and children who are at high risk of entering other worst forms of child labor. Applicants must consider the differences in the work activities undertaken by boys and girls and other gender-specific obstacles that keep children out of school to develop gender-sensitive interventions. Applicants must demonstrate their understanding of risk factors for working children and educational barriers to children in the selected areas, and any work on exploitive child labor and education already carried out or being carried out in these areas by international agencies, local NGOs, and the Government of Turkey. For example, ILO/IPEC and the European Commission are currently supporting exploitive child labor elimination activities in the provinces of: Adana, Ankara, Antalya, Bursa, Cankiri, Corum, Diyarbakir, Elazi, Erzurum Gaziantep, Istanbul, Izmir, Kastamono, Kocaeli, Ordu, Sanliurfa, Sinip, and Van. Every effort must be made to coordinate and collaborate with these organizations to avoid duplicative efforts.

Program efforts under this solicitation are expected to provide access to basic and vocational/technical education to children working in the worst forms of child labor identified in the Time-Bound Policy and Program Framework for the Elimination of Child Labor in Turkey (TBPPF), particularly on developing innovative ways to provide remedial education, accelerated learning, and other forms of non-formal education to bridge the gap that exists in education delivery. Applicants must develop creative and innovative methods, while drawing on and enhancing existing or previous successful models, such as distance learning and mobile schools for the delivery of basic education to these children.

Applicants are strongly encouraged to focus program interventions in Turkey on at least two areas: (1) At the national education policy level, targeting mainstreaming exploitive child labor issues within the national education strategy, and (2) at the provincial and local levels, focusing both on children working under hazardous conditions in the agricultural sector and on the communities where they live and work. Applicants must work within the framework of the Government of Turkey's TBPPF. Close coordination and communication with the Ministry of Labor and Social Security's (MLSS) Child Labor Unit and the Ministry of National Education (MONE) during the design and implementation of the project funded under this solicitation must be maintained throughout the project period. Applicants are expected to encourage MLSS and MONE and all other relevant line ministries to coordinate and collaborate in order to specifically take into account the special education needs of the working children.

Note to Applicants for All Countries: Applicants are encouraged to include letters of endorsement from the host government's Ministry of Labor and Ministry of Education with the proposal. All applicants must have country presence, or partner with an established and eligible organization in that country.

For additional information on exploitive child labor in Ecuador, Indonesia, Panama, and Turkey, applicants are strongly encouraged to refer to the Department of Labor's 2002 Findings on the Worst Forms of Child Labor available at http://www.dol.gov/ILAB/media/reports/iclp/tda2002/overview.htm.

B. Statement of Work

Taking into account the challenges to educating working children in each country of interest, the applicant will facilitate, and implement, as appropriate, creative and innovative approaches to promote policies that will enhance the provision of educational opportunities to children engaged in or removed from exploitive child labor, particularly the worst forms. The expected outcomes/results of the project are, through improved policies and direct education service delivery, as applicable, to: (1) Increase educational opportunities and access (enrollment) for children who are engaged in, at risk of, and/or removed from exploitive child labor, particularly its worst forms; (2) encourage retention in, and completion of educational programs; and (3) expand the successful transition of children in non-formal education into formal schools or vocational programs.

In the course of implementation, each project must promote the goals of USDOL's Child Labor Education Initiative listed above in Section I (A) (i). Because of the limited available resources under this award, applicants should implement programs that complement existing efforts, particularly those funded by USDOL, including Timebound Programs for the elimination of the worst forms of child labor and other projects implemented by ILO/IPEC, and, where appropriate, replicate or enhance successful models to serve expanded numbers of children and communities. However, applicants should not duplicate existing efforts and/or projects and should work within host government child labor and education frameworks. In order to avoid duplication, enhance collaboration, expand impact, and develop synergies, the cooperative agreement awardee (hereafter referred to as “Grantee”) should work cooperatively with national stakeholders in developing project interventions.

Applicants are strongly encouraged to discuss proposed interventions, strategies, and activities with host government officials during the preparation of an application for this cooperative agreement.

Partnerships between more than one organization are also eligible and encouraged, in particular with qualified, community-based organizations in order to build local capacity; in such a case, however, a lead organization must be identified. Applicants whose strategies include the direct delivery of education are encouraged to enroll at least one-quarter of the targeted children the Grantee is attempting to reach in educational activities during the first year of project implementation. Under this cooperative agreement, vocational training for adolescents and income generating alternatives for parents are allowable activities.

Although USDOL is open to all proposals for innovative solutions to address the challenges of providing increased access to education to the children targeted, the applicant must, at a minimum, prepare responses following the outline of a preliminary project document presented in appendix A. This response will be the foundation for the final project document that will be approved after award of the cooperative agreement.

If the application does not propose interventions aimed toward the target group and geographical areas as identified (where applicable), then the application may be considered unresponsive.

Note to All Applicants: Grantees are expected to consult with and work cooperatively with stakeholders in the countries, including the Ministries of Education, Labor, and other relevant ministries, NGOs, national steering/advisory committees on child labor, education, faith and community-based organizations, and working children and their families. Grantees should ensure that their proposed activities and interventions are within those of the countries' national child labor and education frameworks and priorities, as applicable. Grantees are strongly encouraged to collaborate with existing projects, particularly those funded by USDOL, including Timebound Programs and other projects implemented by ILO/IPEC. However, applicants are reminded that this is a stand-alone project and that other federal awards cannot supplement as matching funds a project awarded under this cooperative agreement.

II. Award Information

Type of assistance instrument: cooperative agreement. USDOL's involvement in project implementation and oversight is outlined in Section VI (C). The duration of the projects funded by this solicitation is four (4) years. The start date of program activities will be negotiated upon awarding of the cooperative agreement, but no later than September 30, 2004.

Up to US $18 million will be awarded under this solicitation, with up to $3 million for Ecuador, $6 million for Indonesia, $3 million for Panama, and up to $6 million for Turkey. USDOL may award one or more cooperative agreements to one, several, or a partnership of more than one organization that may apply to implement the program. Any sub-contractor must be approved by USDOL.

III. Eligibility Information

A. Eligible Applicants

Any commercial, international, educational, or non-profit organization, including any faith-based or community-based organizations, capable of successfully developing and implementing education programs for working children or children at risk of entering exploitive work in the countries of interest is eligible to apply. Partnerships of more than one organization are also eligible, and applicants are strongly encouraged to work with organizations already undertaking projects in the countries of interest, particularly local NGOs, including faith-based and community-based organizations. In the case of partnership applications, a lead organization must be identified. An applicant must demonstrate a country presence, independently or through a relationship with another organization(s) with country presence, which gives it the ability to initiate program activities upon award of the cooperative agreement. Applicants applying for more than one country must submit a separate application for each country. If applications for countries are combined, they will not be considered. (All applicants are requested to complete the Survey on Ensuring Equal Opportunity for Applicants (OMB No. 1225-0083), which is available online at http://www.dol.gov/ILAB/grants/sga0408/bkgrdSGA0408.htm). The capability of an applicant or applicants to perform necessary aspects of this solicitation will be determined under the criteria outlined in the Application Review Information section of this solicitation, Section V.

Please note that to be eligible, cooperative agreement applicants classified under the internal revenue code as a 501(c)(4) entity (see 26 U.S.C. 501(c)(4)), may not engage in lobbying activities. According to the Lobbying Disclosure Act of 1995, as codified at 2 U.S.C. 1611, an organization, as described in section 501(c)(4) of the Internal Revenue Code of 1986, that engages in lobbying activities will not be eligible for the receipt of Federal funds constituting an award, grant, cooperative agreement, or loan.

B. Cost Sharing or Matching

This solicitation does not require applicants to share costs or provide matching funds. However, the leveraging of resources and in-kind contributions is strongly encouraged.

C. Other Eligibility Criteria

In accordance with 29 CFR part 98, entities that are debarred or suspended shall be excluded from Federal financial assistance and are ineligible to receive funding under this solicitation. Past performance of organizations that have implemented or are implementing projects or activities for USDOL will be taken into account. Past performance will be rated by the timeliness of deliverables, and the responsiveness of the organization and its staff to USDOL communications regarding deliverables and cooperative agreement or contractual requirements. Lack of past experience with USDOL projects, cooperative agreements, grants, or contracts will not be penalized.

IV. Application and Submission Information

A. Address To Request Application Package

This solicitation contains all of the necessary information and forms needed to apply for cooperative agreement funding. This solicitation is published as part of this Federal Register notice, and in the Federal Register, which may be obtained from your nearest U.S. Government office or public library or online at http://www.archives.gov/federal_register/index.html.

B. Content and Form of Application Submission

One (1) blue ink-signed original, complete application in English plus two (2) copies (in English) of the application, must be submitted to the U.S. Department of Labor, Procurement Services Center, 200 Constitution Avenue, NW., Room N-5416, Attention: Lisa Harvey, Reference Solicitation 04-08, Washington, DC 20210, not later than 4:45 p.m. eastern time, June 7, 2004. Applicants may submit applications for one or more countries. In the case where an applicant is interested in applying for a cooperative agreement in more than one country, a separate application must be submitted for each country.

The application must consist of two (2) separate parts, as well as a table of contents and an abstract summarizing the application in not more that two (2) pages. (The table of contents and abstract are not included in the 45-page limit for Part II.)

Part I of the application must contain the Standard Form (SF) 424, Application for Federal Assistance and Sections A-F of the Budget Information Form SF 424A, available from ILAB's Web site at http://www.dol.gov/ILAB/grants/sga0408/bkgrdSGA0408.htm. Copies of these forms are also available online from the U.S. General Services Administration Web site at http://contacts.gsa.gov/webforms.nsf/0/B835648 D66D1B8 F985256 A72004 C58C2/$file/sf424.pdf and http://contacts.gsa.gov/webforms.nsf/0/5AEB1 FA6FB3 B832385256 A72004C 8E77/$file/Sf424a.pdf. The individual signing the SF 424 on behalf of the applicant must be authorized to bind the applicant. The budget/cost proposal must be written in 10-12 pitch font size.

Part II must provide a technical application that identifies and explains the proposed program and demonstrates the applicant's capabilities to carry out that proposal. The technical application must identify how it will carry out the Statement of Work (Section I (B) of this solicitation) and address each of the Application Review Criteria found in Section V.

The Part II technical application must not exceed 45 single-sided (8½″ x 11″), double-spaced, 10 to 12 pitch typed pages for each country, and must include responses to the application evaluation criteria outlined in this solicitation. Part II must include a project design document submitted in the format shown in appendix A. The application should include the name, address, telephone and fax numbers, and e-mail address (if applicable) of a key contact person at the applicant's organization in case questions should arise.

Applications will only be accepted in English. To be considered responsive to this solicitation, the application must consist of the above-mentioned separate parts. Any applications that do not conform to these standards may be deemed non-responsive to this solicitation and may not be evaluated. Standard forms and attachments are not included in the 45-page limit for part II. However, additional information not required under this solicitation will not be considered.

C. Submission Dates and Times

Applications must be delivered to: U.S. Department of Labor, Procurement Services Center, 200 Constitution Avenue, NW., Room N-5416, Attention: Lisa Harvey, Reference: Solicitation 04-08, Washington, DC 20210. Applications sent by e-mail, telegram, or facsimile (FAX) will not be accepted. Applications sent by other delivery services, such as Federal Express and UPS, will be accepted; however, the applicant bears the responsibility for timely submission. The application package must be received at the designated place by the date and time specified or it will not be considered. Any application received at the Procurement Services Center after 4:45 p.m. eastern time, June 7, 2004, will not be considered unless it is received before the award is made and:

1. It is determined by the Government that the late receipt was due solely to mishandling by the Government after receipt at USDOL at the address indicated;

2. It was sent by registered or certified mail not later than the fifth calendar day before 30 days from the date of publication in the Federal Register; or

3. It was sent by U.S. Postal Service Express Mail Next Day Service-Post Office to Addressee, not later than 5 p.m. at the place of mailing two (2) working days, excluding weekends and Federal holidays, prior to June 7, 2004.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped, or otherwise placed impression (not a postage meter machine impression) that is readily identifiable without further action as having been applied and affixed by an employee of the U.S. Postal Service on the date of mailing. Therefore, applicants should request that the postal clerk place a legible hand cancellation “bull's-eye” postmark on both the receipt and the envelope or wrapper.

The only acceptable evidence to establish the date of mailing of a late application sent by U.S. Postal Service Express Mail Next Day Service-Post Office to Addressee is the date entered by the Post Office clerk on the “Express Mail Next Day Service-Post Office to Addressee” label and the postmark on the envelope or wrapper on the original receipt from the U.S. Postal Service. “Postmark” has the same meaning as defined above. The Procurement Service Center on the application wrapper or other documentary evidence of receipt maintained by that office.

Confirmation of receipt can be made with Lisa Harvey, U.S. Department of Labor, Procurement Services Center, telephone (202) 693-4570 (this is not a toll-free-number) or e-mail: harvey.lisa@dol.gov. All applicants are advised that U.S. mail delivery in the Washington, DC, area can be slow and erratic due to concerns involving contamination. All applicants must take this into consideration when preparing to meet the application deadline.

D. Intergovernmental Review

This funding opportunity is not subject to Executive Order (EO) 12372, “Intergovernmental Review of Federal Programs.”

E. Funding Restrictions

1. In addition to those specified under OMB Circular A-122, the following costs are also unallowable:

a. Construction with funds under this cooperative agreement should not exceed 10% of the project budget's direct costs and should be, preferably, limited to improving existing school infrastructure and facilities in the project's targeted communities. USDOL encourages applicants to leverage funds or in-kind contributions from local partners when proposing construction activities in order to ensure sustainability.

b. Under this cooperative agreement, vocational training for adolescents and income generating alternatives for parents are allowable activities. However, federal funds under this cooperative agreement cannot be used to provide micro-credits, revolving funds, or loan guarantee.

c. Awards will not allow reimbursement of pre-award costs.

2. The following activities are also unallowable under this solicitation:

a. Under this cooperative agreement, awareness raising and advocacy cannot include lobbying or fund-raising (see OMB Circular A-122).

b. The U.S. Government is opposed to prostitution and related activities, which are inherently harmful and dehumanizing, and contribute to the phenomenon of trafficking in persons. U.S. non-governmental organizations, and their sub-awardees, cannot use U.S. Government funds to lobby for, promote or advocate the legalization or regulation of prostitution as a legitimate form of work. Foreign non-governmental organizations, and their sub-awardees, that receive U.S. Government funds to fight trafficking in persons cannot lobby for, promote or advocate the legalization or regulation of prostitution as a legitimate form of work. It is the responsibility of the primary Grantee to ensure its sub-awardees meet these criteria.

FOR FURTHER INFORMATION CONTACT: Lisa Harvey. E-mail address: harvey.lisa@dol.gov.

V. Application Review Information

A. Application Evaluation Criteria

Technical panels will review applications written in the specified format (see Section I, Section IV (2) and appendix A) against the various criteria on the basis of 100 points. Up to five additional points will be given for the inclusion of non-federal or leveraged resources as described below. Applicants are requested to prepare their technical proposal (45 page maximum) on the basis of the following rating factors, which are presented in the order of emphasis that they will receive, and the maximum rating points for each factor.

Program Design/Budget-Cost Effectiveness: 45 points

Organizational Capacity: 30 points

Management Plan/Key Personnel/Staffing: 25 points

Leveraging Resources: 5 extra points

1. Project/Program Design/Budget-Cost Effectiveness (45 Points)

This part of the application constitutes the preliminary project document described in Section I (B) and outlined in appendix A. The applicant's proposal should describe in detail the proposed approach to comply with each requirement.

This component of the application should demonstrate the applicant's thorough knowledge and understanding of the issues, barriers and challenges involved in providing education to children engaged in or at risk of engaging in exploitive child labor, particularly its worst forms; best-practice solutions to address their needs; and the implementing environment in the selected country. When preparing the project document outline, the applicant should at minimum include a description of:

a. Children Targeted—The applicant must identify which and how many children will benefit from the project, including the sectors in which they work, geographical location, and other relevant characteristics. Children are defined as persons under the age of 18 who have been engaged in the worst forms of child labor as defined by ILO Convention 182, or those under the legal working age of the country and who are engaged in other hazardous and/or exploitive activities.

b. Needs/Gaps/Barriers—The applicant must describe the specific gaps/educational needs of the children targeted that the project will address.

c. Proposed Strategy—The applicant must discuss the proposed strategy to address gaps/needs/barriers of the children targeted and its rationale.

d. Description of Activities—The applicant must provide a detailed description of proposed activities that relate to the gaps/needs/barriers to be addressed, including training and technical assistance to be provided to project staff, host country nationals, and community groups involved in the project. The proposed approach is expected to build upon existing activities, government policies, and plans, and avoid needless duplication.

e. Work Plan—The applicant must provide a detailed work plan and timeline for the proposed project, preferably with a visual such as a Gantt chart. Applicants whose strategies include the provision of direct delivery of education are also encouraged to enroll one-quarter of the targeted children in educational activities during the first year of project implementation.

f. Program Management and Performance Assessment—The applicant must describe: (1) How management will ensure that the goals and objectives will be met; (2) how information and data will be collected and used to demonstrate the impacts of the project; and (3) what systems will be put in place for self-assessment, evaluation and continuous improvement. Note to All Applicants: USDOL has already developed common indicators and a database system for monitoring children's educational progress that can be used and adapted by Grantees after award so that they do not need to set up this type of system from scratch. Guidance on common indicators will be provided after award, thus applicants should focus their program management and performance assessment responses toward the development of their project's monitoring strategy in support of the four goals of the Child Labor Education Initiative. For more information on the Child Labor Education Initiative's common indicators and for examples of commonly used education indicators, please visit http://www.clear-measure.com.

g. Budget/Cost Effectiveness—The applicant must show how the budget reflects program goals and design in a cost-effective way so as to reflect budget/performance integration. The budget should be linked to the activities and outputs of the implementation plan listed above. This section of the application should explain the costs for performing all of the requirements presented in this solicitation, and for producing all required reports and other deliverables. Costs must include labor, equipment, travel, annual audits, evaluations, and other related costs. Applications should allocate sufficient resources to proposed studies, assessments, surveys, and monitoring and evaluation activities. When developing their applications, applicants should allocate the largest proportion of resources to educational activities aimed at targeted children, rather than direct costs. Preference may be given to applicants with low administrative costs and with a budget breakdown that provides a larger amount of resources to project activities. All costs should be reported, as they will become part of the cooperative agreement upon award. In their cost proposal, applicants must reflect a breakdown of the total administrative costs into direct administrative costs and indirect administrative costs. This section will be evaluated in accordance with applicable Federal laws and regulations. The budget must comply with Federal cost principles (which can be found in the applicable OMB Circulars).

Applicants are encouraged to discuss the possibility of exemption from customs and Value Added Tax (VAT) with host government officials during the preparation of an application for this cooperative agreement. While USDOL encourages host governments to not apply custom or VAT taxes to USDOL-funded programs, some host governments may nevertheless choose to assess such taxes. USDOL may not be able to provide assistance in this regard. Applicants should take into account such costs in budget preparation. If major costs are omitted, a Grantee may not be allowed to include them later.

2. Organizational Capacity (30 Points)

Under this criterion, the applicant must present the qualifications of the organization(s) implementing the program/project. The evaluation criteria in this category are as follows:

a. International Experience—The organization applying for the award has international experience implementing basic, transitional, non-formal or vocational education programs that address issues of access, quality, and policy reform for vulnerable children including children engaged in or at risk of exploitive child labor, preferably in the countries of interest.

b. Country Presence—An applicant, or its partners, must be formally recognized by the host government(s) using the appropriate mechanism, e.g., Memorandum of Understanding, local registration of organization. An applicant must also demonstrate a country presence, independently or through a relationship with another organization(s) with country presence, which gives it the ability to initiate program activities upon award of the cooperative agreement, as well as the capability to work directly with government ministries, educators, civil society leaders, and other local faith-based or community organizations. For applicants that do not have independent country presence, documentation of the relationship with the organization(s) with such a presence must be provided. Applicants are strongly encouraged to work collaboratively with local partners and organizations.

c. Fiscal Oversight—The organization shows evidence of a sound financial system. The results of the most current independent financial audit must accompany the application, and applicants without one will not be considered.

d. Coordination—If two or more organizations are applying for the award in the form of a partnership, they must demonstrate an approach to ensure the successful collaboration including clear delineation of respective roles and responsibilities. The applicants must also identify the lead organization and submit the partnership agreement.

e. Experience—The application must include information about previous grant, cooperative agreements, or contracts of the applicant that are relevant to this solicitation including:

(1) The organizations for which the work was done;

(2) A contact person in that organization with their current phone number;

(3) The dollar value of the grant, contract, or cooperative agreement for the project;

(4) The time frame and professional effort involved in the project;

(5) A brief summary of the work performed; and

(6) A brief summary of accomplishments.

This information on previous grants, cooperative agreements, and contracts held by the applicant must be provided in appendices and will not count in the maximum page requirement.

3. Management Plan/Key Personnel/Staffing (25 Points)

Successful performance of the proposed work depends heavily on the management skills and qualifications of the individuals committed to the project. Accordingly, in its evaluation of each application, USDOL will place emphasis on the applicant's management approach and commitment of personnel qualified for the work involved in accomplishing the assigned tasks. This section of the application must include sufficient information to judge management and staffing plans, and the experience and competence of program staff proposed for the project to assure that they meet the required qualifications. Information provided on the experience and educational background of personnel should include the following:

a. The identity of key personnel assigned to the project. “Key personnel” are staff (Project Director, Education Specialist, and Monitoring and Evaluation Officer) who are essential to the successful operation of the project and completion of the proposed work and, therefore, may not be replaced or have hours reduced without the approval of the Grant Officer.

b. The educational background and experience of all staff to be assigned to the project.

c. The special capabilities of staff that demonstrate prior experience in organizing, managing and performing similar efforts.

d. The current employment status of staff and availability for this project. The applicant must also indicate whether the proposed work will be performed by persons currently employed or is dependent upon planned recruitment or sub-contracting.

Note that management and professional technical staff members comprising the applicant's proposed team should be individuals who have prior experience with organizations working in similar efforts, and are fully qualified to perform work specified in the Statement of Work. Where sub-contractors or outside assistance are proposed, organizational control should be clearly delineated to ensure responsiveness to the needs of USDOL.

Note to All Applicants: USDOL strongly recommends that key personnel allocate at least 50 percent of their time to the project and be present in the project country. USDOL prefers that key personnel positions not be combined unless the applicant can propose a cost-effective strategy that ensures that all key management and technical functions (as identified in this solicitation) are clearly defined and satisfied. Key personnel must sign letters of agreement to serve on the project, and indicate availability to commence work within three weeks of cooperative agreement award. Applicants must submit these letters as part of the application.

In this section, the following information must be furnished:

(1) Key personnel—For each country for which an application is submitted, the applicant must designate the key personnel listed below. If key personnel are not designated, the application will not be considered.

(a) A Project Director to oversee the project and be responsible for implementation of the requirements of the cooperative agreement. The Program Director must have a minimum of three years of professional experience in a leadership role in implementation of complex basic education programs in developing countries in areas such as education policy; improving educational quality and access; educational assessment of disadvantaged students; development of community participation in the improvement of basic education for disadvantaged children; and monitoring and evaluation of basic education projects. Consideration will be given to candidates with additional years of experience including experience working with officials of ministries of education and/or labor. Preferred candidates must also have knowledge of exploitive child labor issues, and experience in the development of transitional, formal, and vocational education of children removed from exploitive child labor and/or victims of the worst forms of child labor. Fluency in English is required and working knowledge of the official language(s) spoken in the target countries is preferred.

(b) An Education Specialist who will provide leadership in developing the technical aspects of this project in collaboration with the Project Director. This person must have at least three years experience in basic education projects in developing countries in areas including student assessment, teacher training, educational materials development, educational management, and educational monitoring and information systems. This person must have experience in working successfully with ministries of education, networks of educators, employers' organizations and trade union representatives or comparable entities. Additional experience with exploitive child labor/education policy and monitoring and evaluation is an asset. Working knowledge of English preferred, as is a similar knowledge of the official language(s) spoken in the target countries.

(c) A Monitoring and Evaluation Officer who will serve at least part-time and oversee the implementation of the project's monitoring and evaluation strategies and requirements. This person should have at least three years progressively responsible experience in the monitoring and evaluation of international development projects, preferably in education and training or a related field. Related experience can include strategic planning and performance measurement, indicator selection, quantitative and qualitative data collection and analysis methodologies, and knowledge of the Government Performance and Results Act (GPRA). Individuals with a demonstrated ability to build capacity of the project team and partners in these domains will be given special consideration.

(2) Other Personnel—The applicant must identify other program personnel proposed to carry out the requirements of this solicitation.

(3) Management Plan—The management plan must include the following:

(a) A description of the functional relationship between elements of the project's management structure; and

(b) The responsibilities of project staff and management and the lines of authority between project staff and other elements of the project.

(4) Staff Loading Plan—The staff loading plan must identify all key tasks and the person-days required to complete each task. Labor estimated for each task must be broken down by individuals assigned to the task, including sub-contractors and consultants. All key tasks should be charted to show time required to perform them by months or weeks.

(5) Roles and Responsibilities—The applicant must include a resume and description of the roles and responsibilities of all personnel proposed. Resumes must be attached in an appendix. At a minimum, each resume must include: the individual's current employment status and previous work experience, including position title, duties, dates in position, employing organizations, and educational background. Duties must be clearly defined in terms of role performed, e.g., manager, team leader, and/or consultant. Indicate whether the individual is currently employed by the applicant, and (if so) for how long.

4. Leverage of Grant Funding (5 Points)

USDOL will give up to five (5) additional rating points to applications that include non-Federal resources that significantly expand the dollar amount, size and scope of the application. These programs will not be financed by the project, but can complement and enhance project objectives. Applicants are also encouraged to leverage activities such as micro-credit or income generation projects for adults that are not directly allowable under the cooperative agreement. To be eligible for the additional points, the applicant must list the source(s) of funds, the nature, and possible activities anticipated with these funds under this cooperative agreement and any partnerships, linkages or coordination of activities, cooperative funding, etc.

B. Review and Selection Process

USDOL will screen all applications to determine whether all required elements are present and clearly identifiable. Each complete application will be objectively rated by a technical panel against the criteria described in this announcement. Applicants are advised that panel recommendations to the Grant Officer are advisory in nature. The Grant Officer may elect to select a Grantee on the basis of the initial application submission; or, the Grant Officer may establish a competitive or technically acceptable range from which qualified applicants will be selected. If deemed appropriate, the Grant Officer may call for the preparation and receipt of final revisions of applications, following which the evaluation process described above may be repeated, in whole or in part, to consider such revisions. The Grant Officer will make final selection determinations based on panel findings and consideration of factors that represent the greatest advantage to the government, such as geographic distribution of the competitive applications, cost, the availability of funds and other factors. The Grant Officer's determinations for awards under this solicitation are final.

Note to All Applicants: Selection of an organization as a cooperative agreement recipient does not constitute approval of the cooperative agreement application as submitted. Before the actual cooperative agreement is awarded, USDOL may enter into negotiations about such items as program components, funding levels, and administrative systems in place to support cooperative agreement implementation. If the negotiations do not result in an acceptable submission, the Grant Officer reserves the right to terminate the negotiation and decline to fund the application. Award may also be contingent upon an exchange of project support letters between USDOL and the relevant ministries in target countries.

USDOL is not obligated to make any awards as a result of this solicitation, and only the Grant Officer can bind USDOL to the provision of funds under this solicitation. Unless specifically provided in the cooperative agreement, USDOL's acceptance of a proposal and/or award of Federal funds does not waive any cooperative agreement requirements and/or procedures.

C. Anticipated Announcement and Award Dates

Designation decisions will be made, where possible, within 45 days after the deadline for submission of proposals.

VI. Award Administration Information

A. Award Notices

The Grant Officer will notify applicants of designation results as follows:

Designation Letter: The designation letter signed by the Grant Officer will serve as official notice of an organization's designation. The designation letter will be accompanied by a cooperative agreement and USDOL/ILAB's Management Procedures and Guidelines (MPG).

Non-Designation Letter: Any organization not designated will be notified formally of the non-designation and given the basic reasons for the determination.

Notification by a person or entity other than the Grant Officer that an organization has or has not been designated is not valid.

B. Administrative and National Policy Requirements

1. General

Grantee organizations are subject to applicable U.S. Federal laws (including provisions of appropriations law) and the applicable Office of Management and Budget (OMB) Circulars. If during project implementation, a Grantee is found in violation of U.S. government regulations, the terms of the cooperative agreement awarded under this solicitation may be modified by USDOL, costs may be disallowed and recovered, the cooperative agreement may be terminated, and USDOL may take other action permitted by law. Determinations of allowable costs will be made in accordance with the applicable U.S. Federal cost principles. Grantees will also be required to submit to an annual independent audit, and costs for such an audit should be included in direct or indirect costs, whichever is appropriate.

The cooperative agreements awarded under this solicitation are subject to the following administrative standards and provisions, and any other applicable standards that come into effect during the term of the grant agreement, if applicable to a particular Grantee and any others that subsequently come into effect:

a. 29 CFR Part 31—Nondiscrimination In Federally Assisted Programs of the Department of Labor— Effectuation of Title VI of the Civil Rights Act of 1964.

b. 29 CFR Part 32—Nondiscrimination on the Basis of Handicap In Programs and Activities Receiving or Benefiting from Federal Financial Assistance.

c. 29 CFR Part 33—Enforcement of Nondiscrimination on the Basis of Handicap In Programs or Activities Conducted by the Department of Labor.

d. 29 CFR Part 36—Federal Standards for Nondiscrimination on the Basis of Sex in Education Programs or Activities Receiving Federal Financial Assistance.

e. 29 CFR Part 93—New Restrictions on Lobbying.

f. 29 CFR Part—Uniform Administrative Requirements for Grants and Agreements with Institutions of Higher Education, Hospitals and other Non-Profit Organizations, and with Commercial Organizations, Foreign Governments, Organizations Under the Jurisdiction of Foreign Governments and International Organizations.

g. 29 CFR Part 96—Federal Standards for Audit of Federally Funded Grants, Contracts and Agreements.

h. 29 CFR Part 98—Federal Standards for Government-wide Debarment and Suspension (Nonprocurement) and Government-wide Requirements for Drug-Free Workplace (Grants).

i. 29 CFR Part 99—Federal Standards for Audits of States, Local Governments, and Non-Profit Organizations.

Applicants are reminded to budget for compliance with the administrative requirements set forth. This includes the cost of performing administrative activities such as annual financial audits, closeout, mid-term and final evaluations, document preparation, as well as compliance with procurement and property standards. Copies of all regulations referenced in this solicitation are available at no cost, on-line, at http://www.dol.gov.

Grantees should be aware that terms outlined in this solicitation, the cooperative agreement, and the MPGs are applicable to the implementation of projects awarded under this solicitation.

2. Sub-Contracts

Sub-contracts must be awarded in accordance with 29 CFR 95.40-48. In compliance with Executive Orders 12876, as amended, 13230, 12928 and 13021, as amended, Grantees are strongly encouraged to provide sub-contracting opportunities to Historically Black Colleges and Universities, Hispanic-Serving Institutions and Tribal Colleges and Universities. To the extent possible, sub-contracts awarded after the cooperative agreement is signed must be awarded through a formal competitive bidding process, unless prior written approval is obtained from USDOL/ILAB.

3. Key Personnel

The applicant shall list the individual(s) who has/have been designated as having primary responsibility for the conduct and completion of all project work. The applicant must submit written proof that key personnel will be available to begin work on the project no later than three weeks after award. Grantees agree to inform the Grant Officer's Technical Representative (GOTR) whenever it appears impossible for this individual(s) to continue work on the project as planned. A Grantee may nominate substitute key personnel and submit the nominations to the GOTR; however, a Grantee must obtain prior approval from the Grant Officer for all changes to key personnel (Project Director, Education Specialist, and Monitoring and Evaluation Officer). If the Grant Officer is unable to approve the key personnel change, he/she reserves the right to terminate the cooperative agreement.

4. Encumbrance of Cooperative Agreement Funds

Cooperative agreement funds may not be encumbered/obligated by a Grantee before or after the period of performance. Encumbrances/obligations outstanding as of the end of the cooperative agreement period may be liquidated (paid out) after the end of the cooperative agreement period. Such encumbrances/obligations shall involve only specified commitments for which a need existed during the cooperative agreement period and which are supported by approved contracts, purchase orders, requisitions, invoices, bills, or other evidence of liability consistent with a Grantee's purchasing procedures and incurred within the cooperative agreement period. All encumbrances/obligations incurred during the cooperative agreement period shall be liquidated within 90 days after the end of the cooperative agreement period, if practicable.

All equipment purchased with project funds should be inventoried and secured throughout the life of the project. At the end of the project, USDOL and the Grantees will determine how to best allocate equipment purchased with project funds in order to ensure sustainability of efforts in the projects' implementing areas.

5. Site Visits

USDOL, through its authorized representatives, has the right, at all reasonable times, to make site visits to review project accomplishments and management control systems and to provide such technical assistance as may be required. If USDOL makes any site visit on the premises of a Grantee or a sub-contractor(s) under this cooperative agreement, a Grantee shall provide and shall require its sub-contractors to provide all reasonable facilities and assistance for the safety and convenience of government representatives in the performance of their duties. All site visits and evaluations shall be performed in a manner that will not unduly delay the implementation of the project.

C. Reporting and Deliverables

In addition to meeting the above requirements, a Grantee must be expected to monitor the implementation of the program, report to USDOL on a quarterly basis, and undergo evaluations of program results. Guidance on USDOL procedures and management requirements will be provided to Grantees in MPGs with the cooperative agreement. The project budget must include funds to: Plan, implement, monitor, and evaluate programs and activities (including mid-term and final evaluations and annual audits); conduct studies pertinent to project implementation; establish education baselines to measure program results; and finance travel by field staff and key personnel to meet annually with USDOL officials in Washington, DC. Applicants based both within and outside the United States should also budget for travel by field staff and other key personnel to Washington, DC, at the beginning of the project for a post-award meeting with USDOL. Indicators of performance will also be developed by a Grantee and approved by USDOL. Unless otherwise indicated, a Grantee must submit copies of all required reports to ILAB by the specified due dates. Specific deliverables are the following:

1. Project Design Document

Applicants will prepare a preliminary project document in the format described in Appendix A, with design elements linked to a logical framework matrix. (Note: The supporting logical framework matrix will not count in the 45-page limit but should be included as an annex to the project document. To guide applicants, a sample logical framework matrix for a hypothetical Child Labor Education Initiative project is available at http://www.dol.gov/ILAB/grants/sga0408/bkgrdSGA0408.htm.) The project document will include a background/justification section, project strategy (goal, purpose, outputs, activities, indicators, means of verification, assumptions), project implementation timetable and project budget. The narrative will address the criteria/themes described in the Program Design/Budget-Cost Effectiveness section below.

Within six months after the time of the award, the Grantee will deliver the final project design document, based on the application written in response to this solicitation, including the results of additional consultation with stakeholders, partners, and ILAB. The final project design document will also include sections that address coordination strategies, project management and sustainability.

2. Progress and Financial Reports

The format for the progress reports will be provided in the MPGs distributed after the award. Grantees must furnish a typed technical progress report and a financial report (SF269) to USDOL/ILAB on a quarterly basis by 31 March, 30 June, 30 September, and 31 December of each year during the cooperative agreement period. Also, a copy of the Federal Cash Transactions Report (PSC 272) should be submitted to ILAB upon submission to the Health and Human Services—Payment Management System (HHS-PMS).

3. Annual Work Plan

Grantees must develop an annual work plan within six months of project award for approval by ILAB so as to ensure coordination with other relevant social actors throughout the country. Subsequent annual work plans will be delivered no later than one year after the previous one.

4. Performance Monitoring and Evaluation Plan

Grantees must develop a performance monitoring and evaluation plan in collaboration with USDOL/ILAB including beginning and ending dates for the project, indicators and methods and cost of data collection, planned and actual dates for mid-term review, and final end of project evaluations. The performance monitoring plan will be developed in conjunction with the logical framework project design and common indicators for GPRA reporting selected by ILAB. The plan will include a limited number of key indicators that can be realistically measured within the cost parameters allocated to project monitoring. Baseline data collection will be tied to the indicators of the project design document and the performance monitoring plan. A monitoring and evaluation plan will be submitted to ILAB within six months of project award.

5. Project Evaluations

Grantees and the GOTR will determine on a case-by-case basis whether mid-term evaluations will be conducted by an internal or external evaluation team. All final evaluations will be external and independent in nature. A Grantee must respond in writing to any comments and recommendations resulting from the review of the mid-term report. The budget must include the projected cost of mid-term and final evaluations.

Note to All Applicants: USDOL provides its Grantees with training and technical assistance to refine the quality of deliverables. This assistance includes workshops to refine project design and improve performance monitoring plans, and reporting on Child Labor Education Initiative common indicators.

Exact timeframes for completion of deliverables will be addressed in the cooperative agreement and the MPGs.

VII. Agency Contacts

All inquiries regarding this solicitation should be directed to: Ms. Lisa Harvey, U.S. Department of Labor, Procurement Services Center, 200 Constitution Avenue, NW., Room N-5416, Washington, DC 20210; telephone (202) 693-4570 (this is not a toll-free-number) or e-mail: harvey.lisa@dol.gov.

VIII. Other Information

A. Production of Deliverables

1. Materials Prepared Under the Cooperative Agreement

Grantees must submit to USDOL/ILAB, for approval, all media-related, awareness-raising, and educational materials developed by it or its sub-contractors before they are reproduced, published, or used. USDOL/ILAB considers that materials include brochures, pamphlets, videotapes, slide-tape shows, curricula, and any other training materials used in the program. USDOL/ILAB will review materials for technical accuracy.

2. Acknowledgment of USDOL Funding

USDOL has established procedures and guidelines regarding acknowledgment of funding. USDOL requires, in most circumstances, the following must be displayed on printed materials: “Funding provided by the United States Department of Labor under Cooperative Agreement No. E-9-X-X-XXXX.”

With regard to press releases, requests for proposals, bid solicitations, and other documents describing projects or programs funded in whole or in part under this cooperative agreement, all Grantees are required to consult with USDOL/ILAB on: acknowledgment of USDOL funding; general policy issues regarding international child labor; and informing USDOL, to the extent possible, of major press events and/or interviews. More detailed guidance on acknowledgement of USDOL funding will be provided upon award to the Grantee(s) in the cooperative agreement and MPG.

In consultation with USDOL/ILAB, USDOL will be acknowledged in one of the following ways:

a. The USDOL logo may be applied to USDOL-funded material prepared for worldwide distribution, including posters, videos, pamphlets, research documents, national survey results, impact evaluations, best practice reports, and other publications of global interest. A Grantee must consult with USDOL/ILAB on whether the logo may be used on any such items prior to final draft or final preparation for distribution. In no event will the USDOL logo be placed on any item until USDOL/ILAB has given a Grantee written permission to use the logo on the item.

b. The following notice must appear on all documents: “This document does not necessarily reflect the views or policies of the U.S. Department of Labor, nor does mention of trade names, commercial products, or organizations imply endorsement by the U.S. Government.”

In addition, any information submitted in response to this solicitation will be subject to the provisions of the Privacy Act and the Freedom of Information Act, as appropriate. USDOL is not obligated to make any awards as result of this solicitation, and only the Grant Officer can bind USDOL to the provision of funds under this solicitation. Unless specifically provided in the cooperative agreement, USDOL's acceptance of a proposal and/or award of Federal funds do not waive any cooperative agreement requirements and/or procedures.

Signed at Washington, DC, this 30th day of April, 2004.
Lisa Harvey,
Acting Grant Officer.

Appendix A: Project Document Format

Executive Summary

1. Background and Justification

2. Target Groups

3. Program Approach and Strategy

3.1 Narrative of Approach and Strategy (linked to Logical Framework matrix)

3.2 Project Implementation Timeline (Gantt Chart of Activities linked to Logical Framework)

3.3 Budget (with cost of Activities linked to Outputs for Budget Performance Integration)

4. Project Monitoring and Evaluation

4.1 Indicators and Means of Verification

4.2 Baseline Data Collection Plan

5. Institutional and Management Framework

5.1 Institutional Arrangements for Implementation

5.2 Collaborating and Implementing Institutions (Partners) and Responsibilities

5.3 Other Donor or International Organization Activity and Coordination

5.4 Project Management Organizational Chart

6. Inputs

6.1 Inputs provided by the DOL

6.2 Inputs provided by the Grantee

6.3 National and/or Other Contributions

7. Sustainability

Annex A: Full presentation of the Logical Framework matrix

Annex B: Out-put Based Budget example

(A worked example of a Logical Framework matrix, an Out-put Based Budget, and other background documentation for this solicitation are available from the USDOL/ILAB Web site at http://www.dol.gov/ILAB/grants/sga0408/bkgrdSGA0408.htm.)

[FR Doc. 04-10307 Filed 5-5-04; 8:45 am]

BILLING CODE 4510-28-P